DEPARTMENT OF COMMERCE

National Oceanic and Atmospheric Administration

[I.D. 091906B]

North Pacific Fishery Management Council; Public Meeting

AGENCY: National Marine Fisheries Service (NMFS), National Oceanic and Atmospheric Administration (NOAA), Commerce.

ACTION: Notice of a public meeting.

SUMMARY: The North Pacific Fishery Management Council (Council) Charter Halibut Stakeholder Committee will meet on October 16-18, 2006, in Anchorage, AK.

DATES: The meeting will be held on October 16, 1 p.m. to 5 p.m., October 17, 9 a.m. to 5 p.m., and October 18, 9 a.m. to 1 p.m.

ADDRESSES: The meeting will be held at the North Pacific Research Board, 1007 West 3rd Avenue, Suite 100 Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Committee will review: (1) 2005 charter halibut harvests and status of the guideline harvest level (GHL) from Statewide Harvest Survey and pending legislation with State Legislature and Congress; (2) implementation plan for 5-halibut annual limit in Area 2C and NOAA Fisheries request to reconsider its June 2006 preferred alternative; (3) moratorium discussion paper; and (4) permanent solution discussion paper (DiCosimo and King).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 19, 2006.
Tracey L. Thompson,
Acting Director, Office of Sustainable Fisheries, National Marine Fisheries Service.

[FR Doc. E6-15691 Filed 9-25-06; 8:45 am]

BILLING CODE 3510-22-S